DEPARTMENT OF COMMERCE

National Oceanic and Atmospheric Administration

[RTID 0648-XE385]

Pacific Fishery Management Council; Public Meeting

AGENCY: National Marine Fisheries Service (NMFS), National Oceanic and Atmospheric Administration (NOAA), Commerce.

ACTION: Notice of a public online meeting.

SUMMARY: The Ecosystem-Based Management Subcommittee (SSC ES) of the Pacific Fishery Management Council's (Pacific Council) Scientific and Statistical Committee (SSC) will convene an online meeting to review new forage indicators in the California Current Integrated Ecosystem Assessment Team's Ecosystem Status Report. This review may potentially inform future annual reports to the Pacific Council on the state of the California Current Ecosystem. The SSC ES meeting is open to the public.

DATES: The SSC ES meeting will be held Tuesday, November 5, 2024, from 8:30 a.m. until 12 p.m. (Pacific Time) or until business for the day has been completed.

ADDRESSES: This meeting will be conducted as an online meeting. Specific meeting information, including the agenda and directions on how to join the meeting and system requirements, will be provided in the announcement on the Pacific Council's website (see https://www.pcouncil.org). You may send an email to Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Marlene A. Bellman, Staff Officer, Pacific Council; telephone: (503) 820-2414, email: marlene.bellman@noaa.gov.

SUPPLEMENTARY INFORMATION: The purpose of the SSC ES meeting is to review the approach to estimate krill abundance and the development of a Dungeness crab megalopae abundance index, per guidance from the Pacific Council in March 2024.

No management actions will be decided by the meeting participants. The participants' role will be the development of recommendations and reports for consideration by the SSC and the Pacific Council at a future Council meeting. The Pacific Council and SSC are scheduled to consider the California Current Ecosystem Status Report at their March 2025 meeting in Vancouver, WA.

Although non-emergency issues not contained in the meeting agenda may be discussed, those issues may not be the subject of formal action during this meeting. Action will be restricted to those issues specifically listed in this notice and any issues arising after publication of this notice that require emergency action under Section 305(c) of the Magnuson-Stevens Fishery Conservation and Management Act, provided the public has been notified of the intent of the workshop participants to take final action to address the emergency.

Special Accommodations

Requests for sign language interpretation or other auxiliary aids should be directed to Kris Kleinschmidt (kris.kleinschmidt@noaa.gov; (503) 820-2412) at least 10 days prior to the meeting date.

Authority: 16 U.S.C. 1801 et seq.

Dated: October 15, 2024.
Alyssa Weigers,
Acting Deputy Director, Office of Sustainable Fisheries, National Marine Fisheries Service.

[FR Doc. 2024-24151 Filed 10-17-24; 8:45 am]

BILLING CODE 3510-22-P